DEPARTMENT OF HEALTH AND HUMAN SERVICES

Food and Drug Administration

[Docket No. FDA-2020-N-0008]

Circulatory System Devices Panel of the Medical Devices Advisory Committee; Notice of Meeting; Postponement

AGENCY: Food and Drug Administration, HHS.

ACTION: Notice of meeting; postponement.

SUMMARY: The Food and Drug Administration (FDA) is postponing the meeting of the Circulatory System Devices Panel of the Medical Devices Advisory Committee scheduled from October 7, 2020, to a later date to be determined. The meeting was announced in the Federal Register of August 20, 2020. A future meeting date will be announced in the Federal Register.

FOR FURTHER INFORMATION CONTACT: Aden Asefa, Center for Devices and Radiological Health, Food and Drug Administration, 10903 New Hampshire Ave., Bldg. 66, Rm. 5214, Silver Spring, MD 20993-0002, Aden.Asefa@fda.hhs.gov, 301-796-0400, or FDA Advisory Committee Information Line, 1-800-741-8138 (301-443-0572 in the Washington, DC area) and follow the prompts to the desired center or product area. Please call the Information Line for up-to-date information on this meeting.

SUPPLEMENTARY INFORMATION: The meeting of the Circulatory System Devices Panel of the Medical Devices Advisory Committee was originally announced in the Federal Register of August 20, 2020 (85 FR 51453), and was initially scheduled for October 7, 2020. FDA has decided to postpone this public meeting until further notice.

Dated: September 29, 2020.
Lauren K. Roth,
Associate Commissioner for Policy.

[FR Doc. 2020-21939 Filed 10-2-20; 8:45 am]

BILLING CODE 4164-01-P